DEPARTMENT OF ENERGY

Federal Energy Regulatory Commission

[Docket No. CP04-348-000]

Southern Natural Gas Company; Notice of Application

June 10, 2004.

Take notice that on June 2, 2004, Southern Natural Gas Company (Southern) located at 1900 Fifth Avenue North, Birmingham, Alabama 35203, filed, in Docket No. CP04-348-000, an application pursuant to Section 7(b) of the Natural Gas Act (NGA), as amended, and Part 157 of the Commission regulations, for authorization to abandon certain Southern natural gas pipeline facilities, located in Shelby County, Texas and DeSoto Parish, Louisiana, by sale to Dominion Gas Ventures, Inc. (Dominion) and for authorization to abandon Southern's gathering service. Southern also requests that the Commission declare that the subject Logansport Gathering System will be considered non-jurisdictional gathering facilities under section 1(b) of the NGA upon closing of the sale to Dominion, all as more fully set forth in the application which is on file with the Commission and open to public inspection. Southern states that this filing is available for review at the Commission or may be viewed on the Commission's web site at http://www.ferc.gov using the “e-Library” link. Enter the docket number excluding the last three digits in the docket number field to access the document. For assistance, please contact FERC Online Support at FERCOnlineSupport@ferc.gov or toll-free at (866) 208-3676, or for TTY, contact (202) 502-8659.

Any questions concerning this application may be directed to John C. Griffin, Senior Counsel, Southern Natural Gas Company, P.O. Box 2563, Birmingham, Alabama 35202-2563 or phone (205) 325-713.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests, comments and interventions may be filed electronically via the Internet in lieu of paper; see, 18 CFR 385.2001(a)(1)(iii) and the instructions on the Commission's web site under the “e-Filing” link. The Commission strongly encourages electronic filings.

Comment Date: July 1, 2004.

Linda Mitry,
Acting Secretary.

[FR Doc. E4-1350 Filed 6-17-04; 8:45 am]

BILLING CODE 6717-01-P